DEPARTMENT OF COMMERCE

Foreign-Trade Zones Board

[Docket T-4-2011]

Foreign-Trade Zone 77—Memphis, TN; Application for Temporary/Interim Manufacturing Authority; Flextronics Logistics USA, Inc. (Cell Phone/Mobile Handset Kitting); Memphis, TN

An application has been submitted to the Executive Secretary of the Foreign-Trade Zones Board (the Board) by the City of Memphis, grantee of FTZ 77, requesting temporary/interim manufacturing (T/IM) authority within FTZ 77 at the Flextronics Logistics USA, Inc. (Flextronics) facility, located in Memphis, Tennessee. The application was filed on August 19, 2011.

The Flextronics facility (approximately 1,000 employees, 19.58 acres, up to 20 million units per year capacity) is located at 6100 and 6380 Holmes Road, Memphis (Site 4). Under T/IM procedures, Flextronics has requested authority to produce cell phones/mobile handsets kits (HTSUS 8517.12, HTSUS 8517.62, HTSUS 8517.69, duty free). Foreign components that would be used in the activity (representing up to 75% of the value of the finished kits) include: LCD adhesive (HTSUS 3919.90); labels (HTSUS 3919.90); polyethylene bags (HTSUS 3923.21); recycling bags (HTSUS 3923.21); plastic sleeves and trays (HTSUS 3923.90); swivel holsters (HTSUS 4202.31); leather battery covers (HTSUS 4202.91); holsters (HTSUS 4202.92); battery chargers (HTSUS 8504.40); batteries (HTSUS 8507.80); stereo headsets (HTSUS 8518.30); LCDs (HTSUS 8528.59); spring contacts (HTSUS 8536.69); and, micro USB cable (HTSUS 8544.42) (duty rate ranges from free to 17.6 percent). T/IM authority could be granted for a period of up to two years.

On its domestic sales, FTZ procedures would allow Flextronics to choose the duty rates during customs entry procedures that apply to cell phone/mobile handset kits (duty free) for the foreign inputs noted above.

In accordance with the Board's regulations, Christopher Kemp of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave., NW., Washington, DC 20230. The closing period for their receipt is September 26, 2011.

Flextronics has also submitted a request to the FTZ Board for FTZ manufacturing authority beyond a two-year period, which may include additional products and components. It should be noted that the request for extended authority would be docketed separately and would be processed as a distinct proceeding. Any party wishing to submit comments for consideration regarding the request for extended authority would need to submit such comments pursuant to the separate notice that would be published for that request.

A copy of the application will be available for public inspection at the Office of the Foreign-Trade Zones Board's Executive Secretary at the address listed above, and in the “Reading Room” section of the Board's Web site, which is accessible via http://www.trade.gov/ftz. For further information, contact Christopher Kemp at Christopher.Kemp@trade.gov or (202) 482-0862.

Dated: August 19, 2011.
Andrew McGilvray,
Executive Secretary.

[FR Doc. 2011-21773 Filed 8-24-11; 8:45 am]

BILLING CODE 3510-DS-P